FEDERAL COMMUNICATIONS COMMISSION

47 CFR Part 73

[DA No. 00-1437; MM Docket No. 99-223; RM-9604]

Radio Broadcasting Services; Leeds, UT

AGENCY: Federal Communications Commission.

ACTION: Proposed rule, denial.

SUMMARY: This document denies a petition for rule making filed by Mountain West Broadcasting requesting the allotment of Channel 287C2 at Leeds, Utah. See 64 FR 34751, June 29, 1999. Based on the information submitted by Mountain West Broadcasting, we believe it has failed to establish that Leeds qualifies as a community for allotment purposes and therefore it would not serve the public interest to allot a channel to Leeds.

FOR FURTHER INFORMATION CONTACT: Kathleen Scheuerle, Mass Media Bureau, (202) 418-2180

SUPPLEMENTARY INFORMATION: This is a summary of the Commission's Report and Order, MM Docket No. 99-223, adopted June 21, 2000, and released June 30, 2000. The full text of this Commission decision is available for inspection and copying during normal business hours in the Commission's Reference Center, 445 Twelfth Street, SW, Washington, DC. The complete text of this decision may also be purchased from the Commission's copy contractors, International Transcription Services, Inc., 1231 20th Street, NW., Washington, DC 20036, (202) 857-3800, facsimile (202) 857-3805.

Federal Communications Commission.
John A. Karousos,
Chief, Allocations Branch, Policy and Rules Division, Mass Media Bureau.

[FR Doc. 00-18296 Filed 7-19-00; 8:45 am]

BILLING CODE 6712-01-P